DEPARTMENT OF JUSTICE

[OMB Number 1140-0066]

Agency Information Collection Activities; Proposed eCollection eComments Requested; Manufacturers of Ammunition, Records and Supporting Data of Ammunition Manufactured and Disposed of

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for 60 days until February 9, 2016.

FOR FURTHER INFORMATION CONTACT: If you have additional comments especially on the estimated public burden or associated response time, suggestions, or need a copy of the proposed information collection instrument with instructions or additional information, please contact Rinell Lawrence, Firearms Enforcement Specialist, Firearms Industry Program, 99 New York Avenue NE. 20226 at email: Fipb-informationcollection@atf.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of this information collection 1140-0066:

1. Type of Information Collection (check justification or form 83): Revision of a currently approved collection.

2. The Title of the Form/Collection: Manufacturers of Ammunition, Records and Supporting Data of Ammunition Manufactured and Disposed of

3. The agency form number, if any, and the applicable component of the Department sponsoring the collection:

Form number (if applicable): None.

Component: Bureau of Alcohol, Tobacco, Firearms and Explosives, U.S. Department of Justice.

4. Affected public who will be asked or required to respond, as well as a brief abstract:

Primary: Business.

Other (if applicable): None.

Abstract: ATF uses manufacturer's records information during investigations, inspections for criminal activity, or for compliance purposes.

5. An estimate of the total number of respondents and the amount of time estimated for an average respondent to respond: An estimated 159 respondents will take two (2) minutes (.033 hours) to complete the survey.

6. An estimate of the total public burden (in hours) associated with the collection: The estimated annual public burden associated with this collection is 5.25 hours.

If additional information is required contact: Jerri Murray, Department Clearance Officer, United States Department of Justice, Justice Management Division, Policy and Planning Staff, Two Constitution Square, 145 N Street NE., Room 3E-405B, Washington, DC 20530.

Dated: December 8, 2015.
Jerri Murray,
Department Clearance Officer for PRA, U.S. Department of Justice.

[FR Doc. 2015-31249 Filed 12-10-15; 8:45 am]

BILLING CODE 4410-FY-P